DEPARTMENT OF ENERGY

Federal Energy Regulatory Commission

Combined Notice Of Filings

Take notice that the Commission has received the following Natural Gas Pipeline Rate and Refund Report filings:

Docket Numbers: RP15-1077-000.

Applicants: Texas Gas Transmission, LLC.

Description: § 4(d) rate filing per 154.204: Remove References to Expired Operating Lease to be effective 4/1/2015.

Filed Date: 6/24/15.

Accession Number: 20150624-5059.

Comments Due: 5 p.m. ET 7/6/15.

Docket Numbers: RP15-1078-000.

Applicants: Barclays Bank PLC.

Description: Petition for Temporary Waiver of Commission Capacity Release Regulations and Related Tariff Provisions and Request for Expedited Action of Barclays Bank PLC under RP15-1078.

Filed Date: 6/24/15.

Accession Number: 20150624-5160.

Comments Due: 5 p.m. ET 7/1/15.

Docket Numbers: RP15-1079-000.

Applicants: Algonquin Gas Transmission, LLC.

Description: § 4(d) rate filing per 154.204: BBPC 2015-07-01 Releases to EDF Trading to be effective 7/1/2015.

Filed Date: 6/25/15.

Accession Number: 20150625-5022.

Comments Due: 5 p.m. ET 7/7/15.

Docket Numbers: RP15-1080-000.

Applicants: Northern Natural Gas Company.

Description: § 4(d) rate filing per 154.204: 20150625 Negotiated Rate to be effective 7/1/2015.

Filed Date: 6/25/15.

Accession Number: 20150625-5025.

Comments Due: 5 p.m. ET 7/7/15.

Docket Numbers: RP15-1081-000.

Applicants: Kern River Gas Transmission Company.

Description: § 4(d) rate filing per 154.204: 2015 Enserco to Twin Eagle to be effective 7/1/2015.

Filed Date: 6/25/15.

Accession Number: 20150625-5034.

Comments Due: 5 p.m. ET 7/7/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2015.
Kimberly D. Bose,
Secretary.

[FR Doc. 2015-16989 Filed 7-10-15; 8:45 am]

BILLING CODE 6717-01-P